DEPARTMENT OF TRANSPORTATION

Federal Motor Carrier Safety Administration

[Docket No. FMCSA-2018-0098]

Parts and Accessories Necessary for Safe Operation; Application for an Exemption From Traditional Trucking Corporation

AGENCY: Federal Motor Carrier Safety Administration (FMCSA), DOT.

ACTION: Notice of application for exemption; request for comments.

SUMMARY: The Federal Motor Carrier Safety Administration (FMCSA) requests public comment on an application for exemption from Traditional Trucking Corporation (TTC) to allow a Global Positioning System (GPS) device to be mounted on the interior of the windshield of a commercial motor vehicle (CMV) within the areas allowed for “vehicle safety technology” devices. The Federal Motor Carrier Safety Regulations (FMCSR) require devices using “vehicle safety technology” to be mounted (A) not more than 4 inches below the upper edge of the area swept by the windshield wipers, or (B) not more than 7 inches above the lower edge of the area swept by the windshield wipers, and (C) outside the driver's sight lines to the road and highway signs and signals. GPS is not considered a “vehicle safety technology” under the definition in the regulation, and as such, GPS devices are not permitted to be mounted on the interior of the windshield and within the area swept by the windshield wipers. TTC believes that the exemption will maintain a level of safety that is equivalent to, or greater than, the level of safety achieved without the exemption because the GPS device is approximately the same size as vehicle safety technology devices, and the current mounting location is much lower in the vehicle which causes the driver to look away from the road to view the GPS device.

DATES: Comments must be received on or before April 23, 2018.

ADDRESSES: You may submit comments bearing the Federal Docket Management System (FDMS) Docket ID FMCSA-2018-0098 using any of the following methods:

• Website: http://www.regulations.gov. Follow the instructions for submitting comments on the Federal electronic docket site.

• Fax: 1-202-493-2251.

• Mail: Docket Management Facility, U.S. Department of Transportation, Room W12-140, 1200 New Jersey Avenue SE, Washington, DC 20590-0001.

• Hand Delivery: Ground Floor, Room W12-140, DOT Building, 1200 New Jersey Avenue SE, Washington, DC, between 9 a.m. and 5 p.m. e.t., Monday-Friday, except Federal holidays.

Instructions: All submissions must include the Agency name and docket number for this notice. For detailed instructions on submitting comments and additional information on the exemption process, see the “Public Participation” heading below. Note that all comments received will be posted without change to http://www.regulations.gov, including any personal information provided. Please see the “Privacy Act” heading for further information.

Docket: For access to the docket to read background documents or comments received, go to http://www.regulations.gov or to Room W12-140, DOT Building, 1200 New Jersey Avenue SE, Washington, DC, between 9 a.m. and 5 p.m., Monday through Friday, except Federal holidays.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public participation: The http://www.regulations.gov website is generally available 24 hours each day, 365 days each year. You may find electronic submission and retrieval help and guidelines under the “help” section of the http://www.regulations.gov website as well as the DOT's http://docketsinfo.dot.gov website. If you would like notification that we received your comments, please include a self-addressed, stamped envelope or postcard or print the acknowledgment page that appears after submitting comments online.

FOR FURTHER INFORMATION CONTACT: Jose R. Cestero, Vehicle and Roadside Operations Division, Office of Carrier, Driver, and Vehicle Safety, MC-PSV, (202) 366-5541, Federal Motor Carrier Safety Administration, 1200 New Jersey Avenue SE, Washington, DC 20590-0001.

SUPPLEMENTARY INFORMATION:

Background

Under 49 CFR 381.315(a), FMCSA must publish a notice of each exemption request in the Federal Register. The Agency must provide the public with an opportunity to inspect the information relevant to the application, including any safety analyses that have been conducted. The Agency must also provide an opportunity for public comment on the request.

The Agency reviews the safety analyses and the public comments and determines whether granting the exemption would likely achieve a level of safety equivalent to or greater than the level that would be achieved by the current regulation (49 CFR 381.305). The decision of the Agency must be published in the Federal Register (49 CFR 381.315(b)). If the Agency denies the request, it must state the reason for doing so. If the decision is to grant the exemption, the notice must specify the person or class of persons receiving the exemption and the regulatory provision or provisions from which an exemption is granted. The notice must specify the effective period of the exemption (up to 5 years) and explain its terms and conditions. The exemption may be renewed (49 CFR 381.315(c) and 49 CFR 381.300(b)).

TTC Application for Exemption

TTC has applied for an exemption from 49 CFR 393.60(e)(1)(i) to allow a GPS device to be mounted on the interior of the windshield of a CMV within the areas allowed for devices with “vehicle safety technology” as defined in the FMCSRs. A copy of the application is included in the docket referenced at the beginning of this notice.

Section 393.60(e)(1)(i) of the FMCSRs prohibits the obstruction of the driver's field of view by devices mounted on the interior of the windshield. Antennas and similar devices must not be mounted more than 152 mm (6 inches) below the upper edge of the windshield, and outside the driver's sight lines to the road and highway signs and signals. Section 393.60(e)(1)(i) does not apply to vehicle safety technologies, as defined in § 390.5, including “a fleet-related incident management system, performance or behavior management system, speed management system, lane departure warning system, forward collision warning or mitigation system, active cruise control system, and transponder.” Section 393.60(e)(1)(ii) requires devices with vehicle safety technologies to be mounted (1) not more than 100 mm (4 inches) below the upper edge of the area swept by the windshield wipers, or (2) not more than 175 mm (7 inches) above the lower edge of the area swept by the windshield wipers, and outside the driver's sight lines to the road and highway signs and signals.

In its application, TTC states;

The exemption is necessary because the dash is not suitable for mounting the fixture to hold the GPS unit, and the location of the GPS unit (if mounted on the top of the dash) is in the same location as currently allowed for “vehicle safety technologies” mounted on the windshield. The GPS fixture cannot be mounted to the “face” of the control panel as that area is covered with controls and displays necessary for the operation of the commercial vehicle . . .

We do not believe that there will be any potential impacts to safety due to the requested temporary exemption. The size of GPS units is approximately the same size as the currently allowed “vehicle safety technologies” and the current location is much lower within the CMV which takes the driver's eyes farther from the road to determine his/her vehicle's correct lane, bridge height, speed, etc. The current allowed location is a more unsafe operating condition.

The exemption would be for any carrier who wishes to mount a GPS device on the windshield within the area defined for “vehicle safety technology”—not more than 4 inches below the upper edge of the windshield wipers, and not more than 7 inches above the lower edge of the area swept by the windshield wipers and outside the driver's sight lines to the road and highway signs and signals. This would yield an equivalent level of safety for GPS devices as compared to those “vehicle safety technologies,” and it would be a potentially safer location than lower in the CMV where the driver must take his/her eyes off the road to look at the location of his CMV on the GPS device. Back in August of 2016, in the BASIC SMS, our Unsafe-driving category was in the cautionary status. Only one of the violations was not due to speeding; all of those with violations said it was due to a speed limit change and they were keeping with what they thought was the speed limit. GPS systems display the posted speed limit and flash in red when they are traveling above the posted speed limit.

The exemption would apply to all CMV operators driving vehicles with GPS devices. TTC believes that mounting the system as described will maintain a level of safety that is equivalent to, or greater than, the level of safety achieved without the exemption.

Request for Comments

In accordance with 49 U.S.C. 31315 and 31136(e), FMCSA requests public comment from all interested persons on TTC's application for an exemption from 49 CFR 393.60(e)(i). All comments received before the close of business on the comment closing date indicated at the beginning of this notice will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Issued on: March 16, 2018.
Larry W. Minor,
Associate Administrator for Policy.

[FR Doc. 2018-05864 Filed 3-21-18; 8:45 am]

BILLING CODE 4910-EX-P